DEPARTMENT OF AGRICULTURE

Agricultural Marketing Service

[Doc. # AMS-14-0073; TM-14-03]

Transportation and Marketing Program: Notice of Guidance Regarding the Specialty Crop Block Grant Program, Multi-State Project Competition

AGENCY: Agricultural Marketing Service, USDA.

ACTION: Notice of availability of guidance with, request for comments.

SUMMARY: The Agricultural Marketing Service (AMS) is announcing the availability of a guidance document intended for use by State departments of agriculture in the 50 States, the District of Columbia, the Commonwealth of Puerto Rico, Guam, American Samoa, the United States Virgin Islands, and the Commonwealth of the Northern Mariana Islands. The guidance document is entitled: Specialty Crop Block Grant Program, Multi-State Project Competition. This guidance document is intended to inform the public of the Transportation Marketing Program's (TM) current thinking on this topic and will be used to develop a Request for Applications (RFA). Comments are requested on the guidance.

DATES: To ensure that TM considers your comment on this guidance before it begins work on a RFA, submit written comments on the guidance by November 24, 2014.

ADDRESSES: Interested persons may submit comments on these guidance documents using the following procedures:

• Federal eRulemaking Portal: http://www.regulations.gov. Follow the instructions for submitting comments.

• Mail: Comments may be submitted by mail to: Arthur L. Neal, Jr., Deputy Administrator, Transportation and Marketing Program, USDA-AMS-TM, 1400 Independence Ave. SW., Room 4543 So., Ag Stop 0264, Washington, DC 20250-0264.

Written comments responding to this request should be identified with the document number AMS-14-0073; TM-14-03. You should clearly indicate your position and the reasons for your position. If you are suggesting changes to the guidance document, you should include recommended language changes, as appropriate, along with any relevant supporting documentation.

USDA intends to make available all comments, including names and addresses when provided, regardless of submission procedure used, on www.regulations.gov and at USDA, AMS, TM, Room 4543-South building, 1400 Independence Ave. SW., Washington, DC, from 9 a.m. to noon and from 1 to 4 p.m., Monday through Friday (except official Federal holidays). Persons wanting to visit the USDA South Building to view comments from the public to this notice are requested to make an appointment by calling (202) 690-1300.

FOR FURTHER INFORMATION CONTACT: Arthur L. Neal, Jr., Deputy Administrator, Director, Transportation and Marketing Program, USDA-AMS-TM, 1400 Independence Ave. SW., Room 4543 So., Ag Stop 0264, Washington, DC 20250-0264; Telephone: (202) 690-1300; Fax: (202) 205-0338.

SUPPLEMENTARY INFORMATION:

I. Background

The Agricultural Act of 2014 (Farm Bill) proposes a new multi-state project set-aside for projects that solely enhance the competitiveness of specialty crops under the amended Specialty Crops Competitiveness Act of 2004 (7 U.S.C 1621 note) USDA may use no-year funding of $1 million in 2014, increasing $1 million per fiscal year to $5 million in 2018 to support multi-state projects. Under subsection (j) of section 101 of the Specialty Crops Competitiveness Act of 2004 (the Act), USDA has been instructed to provide guidance on how grants will be made to multistate projects involving (1) food safety; (2) plant pests and disease; (3) research; (4) crop-specific projects addressing common issues; and (5) any other area that furthers the purposes of the section, as determined by the Secretary.

This guidance describes the Transportation and Marketing Program's (TM) current thinking on the administration of the Specialty Crop Block Grant Program, Multi-State Project Competition (SCBG-MSPC), specifically, the framework for implementing the competitive grant program. The guidance describes parameters of the program including objectives and eligibility criteria for projects and applicants. AMS will use the guidance and comments received to develop a Request for Applications that meets the requirements of section 10010 of the Agricultural Act of 2014 (Farm Bill), which amends Section 101 of the Specialty Crops Competiveness Act of 2004 to add grants for multistate projects (7 U.S.C. 1621 note; Pub. L. 108-465).

This guidance provides information to all State departments of agriculture in the 50 States, the District of Columbia, the Commonwealth of Puerto Rico, Guam, American Samoa, the United States Virgin Islands, and the Commonwealth of the Northern Mariana Islands. This guidance also informs organizations that desire to partner with States on multi-state specialty crop projects. It shares the definition of a multi-state project, the priority areas, indicators of successful applications, material regarding proposal development, award information, grant period duration, award size, eligibility information, and application review information. The guidance is available from AMS on its Specialty Crop Block Grant Program Web site at http://www.ams.usda.gov/AMSv1.0/scbgp.

II. Significance of Guidance

This guidance document is being issued in accordance with the Office of Management and Budget (OMB) Bulletin on Agency Good Guidance Practices (GGPs) (January 25, 2007, 72 FR 3432-3440).

The purpose of GGPs is to ensure that program guidance documents are developed with adequate public participation, are readily available to the public, and are not applied as binding requirements. This guidance represents TM's current thinking on the topic. It does not create or confer any rights for, or on, any person and does not operate to bind the TM or the public. Guidance documents are intended to provide a uniform method for operations to comply that can reduce the burden of developing their own methods and simplify audits and inspections. Alternative approaches that can demonstrate compliance with the Specialty Crops Competitiveness Act, as amended, (7 U.S.C. 1621 note) will be considered. As with any alternative approach, TM strongly encourages States and industry to discuss alternative approaches with TM before implementing them to avoid unnecessary or wasteful expenditures of resources and to ensure the proposed alternative approach complies with the Act.

III. Electronic Access

Persons with access to Internet may obtain the guidance at either AMS' Specialty Crop Block Grant Web site at http://www.ams.usda.gov/AMSv1.0/scbgp or http://www.regulations.gov. Requests for hard copies of the guidance documents can be obtained by submitting a written request to the person listed in the ADDRESSES section of this Notice.

Authority: 7 U.S.C. 1621 note.

Dated: October 20, 2014.
Rex A. Barnes,
Associate Administrator, Agricultural Marketing Service.

[FR Doc. 2014-25270 Filed 10-22-14; 8:45 am]

BILLING CODE P